DEPARTMENT OF THE INTERIOR

National Park Service

60-Day Notice of Intention To Request Clearance of Collection of Information; Opportunity for Public Comment

AGENCY: Department of the Interior, National Park Service.

ACTION: Notice and request for comments.

SUMMARY: Under the provisions of the Paperwork Reduction Act of 1995 and 5 CFR Part 1320, Reporting and Record Keeping Requirements, the National Park Service (NPS) invites public comments on an extension of a currently approved collection of information (OMB #1024-0009).

DATES: Public comments on this Information Collection Request (ICR) will be accepted on or before April 6, 2009.

ADDRESSES: Send comments to: Michael J. Auer, NPS Heritage Preservation Services, 1849 C St., NW (2255), Washington, DC 20240; or via phone at 202/354-2031; or via fax at 202/371-1666; or via e-mail at michaelauer@nps.gov. Also, you may send comments to Leonard E. Stowe, NPS Information Collection Clearance Officer, 1201 Eye St., NW. (2605), Washington, DC 20005; or via e-mail at leonardstowe@nps.gov. All responses to the Notice will be summarized and included in the request for the Office of Management and Budget (OMB) approval. All comments will become a matter of public record.

TO REQUEST A DRAFT OF PROPOSED COLLECTION OF INFORMATION CONTACT: Michael J. Auer, NPS Heritage Preservation Services, 1849 C St., NW (2255), Washington, DC. 20005; or via phone at 202/354-2031; or via fax at 202/371-1666; or via e-mail at michaelauer@nps.gov. You are entitled to a copy of the entire ICR package free of charge once the package is submitted to OMB for review. You can access this ICR at http://www.reginfo.gov/public/.

SUPPLEMENTARY INFORMATION: Title: Historic Preservation Certification Application—36 CFR Part 67 Form(s): 10-168 (Evaluation of Significance); 10-168a (Description of Rehabilitation); 10-168b (Continuation/Amendment Sheet); 10-168c (Certification of Completed Work).

OMB Control Number: 1024-0009.

Expiration Date: 9/30/2009.

Type of Request: Extension of a currently approved collection of information.

Description of Need: Section 47 of the Internal Revenue Code requires that the Secretary of the Interior certify to the Secretary of the Treasury upon application by owners of historic properties for Federal tax benefits: (a) The historic character of the property, and (b) that the rehabilitation work is consistent with that historic character. The NPS administers the program with the Internal Revenue Service. NPS uses the Historic Preservation Certification Application to evaluate the condition and historic significance of buildings undergoing rehabilitation for continued use, and to evaluate whether the rehabilitation work meets the Secretary of the Interior's Standards for Rehabilitation. The Department of the Interior regulation 36 CFR Part 67 contains a requirement for completion of an application form. The information required on the application form is needed to allow the authorized officer to determine if the applicant is qualified to obtain historic preservation certifications from the Secretary of the Interior. These certifications are necessary in order for an applicant to receive substantial Federal tax incentives authorized by Section 47 of the Internal Revenue Code. These incentives include 20% Federal income tax credit for the rehabilitation of historic buildings and an income tax deduction for the donation of easements on historic properties. The Internal Revenue Code also provides 10% Federal income tax credit for the rehabilitation of non-historic buildings built before 1936, and owners of non-historic buildings in historic districts must also use the application to obtain a certification from the Secretary of the Interior that their building does not contribute to the significance of the historic district before they claim this lesser tax credit for rehabilitation. The obligation to respond is required to obtain and retain benefits.

Description of respondents: Individuals or households, businesses or other for-profit entities.

Estimated average number of respondents: 4,000 per year.

Estimated average number of responses: 4,000 per year.

Frequency of Response: 1 per respondent.

Estimated average time burden per respondent: 20 hours.

Estimated total annual reporting burden: 80,000 hours per year.

Comments are invited on: (1) The practical utility of the information being gathered; (2) the accuracy of the burden hour estimate; (3) ways to enhance the quality, utility, and clarity of the information being collected; and (4) ways to minimize the burden to respondents, including use of automated information collection techniques or other forms of information technology. Before including your address, phone number, e-mail address, or other personal identifying information in your comment, you should be aware that your entire comment—including your personal identifying information—may be made publicly available at any time. While you can ask us in your comment to withhold your personal identifying information from public review, we cannot guarantee that we will be able to do so.

Dated: January 12, 2009.
Leonard E. Stowe,
NPS, Information Collection Clearance Officer.

[FR Doc. E9-2051 Filed 2-2-09; 8:45 am]

BILLING CODE 4312-52-M